DEPARTMENT OF COMMERCE

National Oceanic and Atmospheric Administration

RIN 0648-XO88

General Advisory Committee to the U.S. Section to the Inter-American Tropical Tuna Commission; Meeting Announcement

AGENCY: National Marine Fisheries Service (NMFS), National Oceanic and Atmospheric Administration (NOAA),Commerce.

ACTION: Notice of public meeting.

SUMMARY: NMFS announces a meeting of the General Advisory Committee (GAC) to the U.S. Section to the Inter-American Tropical Tuna Commission (IATTC) on May 18, 2009. Meeting topics are provided under the SUPPLEMENTARY INFORMATION section of this notice.

DATES: The meeting will be held on May 18, 2009, from 9 a.m. to 5 p.m. (or until business is concluded), Pacific time.

ADDRESSES: The meeting will be held in the Large Conference Room (Room 370) at NMFS, Southwest Fisheries Science Center, 3333 North Torrey Pines Court, La Jolla, California, 92037-1023. Please notify Heidi Taylor (See FOR FURTHER INFORMATION CONTACT) prior to May 13, 2009, of your plans to attend the meeting, or interest in teleconference option.

FOR FURTHER INFORMATION CONTACT: Heidi Taylor, Southwest Region, NMFS at heidi.taylor@noaa.gov, or at (562) 980-4039.

SUPPLEMENTARY INFORMATION: In accordance with the Tuna Conventions Act, as amended, the Department of State has appointed a General Advisory Committee to the U.S. Section to the IATTC. The U.S. Section consists of four U.S. Commissioners to the IATTC and the representative of the Deputy Assistant Secretary of State for Oceans and Fisheries. The Advisory Committee supports the work of the U.S. Section in an advisory capacity with respect to U.S. participation in the work of the IATTC, with particular reference to the development of policies and negotiating positions pursued at meetings of the IATTC. NMFS, Southwest Region, administers the Advisory Committee in cooperation with the Department of State.

Meeting Topics

The General Advisory Committee to the U.S. Section to the IATTC will meet to receive and discuss information on: (1) 2008 and 2009 IATTC activities, (2) status of the stocks and status of the fishery in 2008, (3) recent and upcoming meetings of the IATTC and its working groups, (4) conservation and management measures for yellowfin and bigeye tuna for 2009 and beyond, measures to be taken in the absence of conservation and management measures, (5) regulation of U.S. vessels if no IATTC conservation and management measures for 2009 and beyond are adopted, (6) exemption for small U.S. purse seine vessels, (7) measures to be taken in cases of non-compliance with the IATTC's conservation and management measures, (8) management of fishing capacity, (9) measures to address bycatch (such as juvenile tunas, sea turtles, seabirds, and sharks), (10) financial issues pertinent to the financial solvency of the IATTC, (11) IATTC cooperation with other regional fishery management organizations, (12)implementing legislation for the Antigua Convention, (13) administrative matters pertaining to the General Advisory Committee, and other issues as they arise.

Special Accommodations

The meeting location is physically accessible to people with disabilities. Requests for sign language interpretation or other auxiliary aids should be directed to Heidi Taylor at (562) 980-4039 by May 13, 2009.

Dated: April 23, 2009.
Kristen C. Koch,
Acting Director, Office of Sustainable Fisheries, National Marine Fisheries Service.

[FR Doc. E9-9824 Filed 4-29-09; 8:45 am]

BILLING CODE 3510-22-S